POSTAL SERVICE

39 CFR Part 111

Changes to Validations for Intelligent Mail Package Barcode

AGENCY: Postal Service ™.

ACTION: Final rule.

SUMMARY: The Postal Service is amending Mailing Standards of the United States Postal Service, Domestic Mail Manual (DMM®) to add new Intelligent Mail® package barcode (IMpb) validations for evaluating compliance with IMpb requirements for all mailers who enter commercial parcels.

DATES: Effective Date: September 21, 2018.

FOR FURTHER INFORMATION CONTACT: Juliaann Hess at (202) 268-7663 or via email at jsanders.hess@usps.gov.

SUPPLEMENTARY INFORMATION:

Background

The Postal Service published a notice of proposed rulemaking on February 27, 2018 (83 FR 8399), to amend the DMM to update IMpb requirements relative to Compliance Quality Validations for Address Quality, Shipping Services File Manifest Quality, and Barcode Quality. These validations will allow the Postal Service to further improve service, tracking, and visibility, all of which will facilitate the identification of noncompliant mailpieces and customer experiences.

Summary of Industry Comments and Postal Service Response

The Postal Service received two sets of comments in response to the proposed rule of February 27, 2018. The Postal Service appreciates all of the comments that were provided by the mailing industry. The mailers' comments and corresponding Postal Service responses are outlined as follows:

Mailer Comment: The Postal Service should clarify the requirements for eVS address quality information.

USPS Response: The Postal Service clarifies that a full and valid destination delivery address (capable of yielding an 11-digit ZIP Code that matches the delivery point in the Shipping Services file) includes the following components:

• Valid secondary address information

• Match between address to ZIP+4 Code

• Includes street number

• Valid primary street number

An address quality noncompliance indicator will be assigned to eVS mailers when the address information is not received before the Arrival at Post Office (07) scan event.

In addition, we have added a separate clarification for non-eVS mailers. An address quality noncompliance indicator will be assigned when the address information is not present at the time of mailing.

Mailer Comment: Clarification appears necessary regarding manifest quality specifications.

USPS Response: The manifest file provides essential information about the shipping product to provide package visibility. In addition to the Transaction ID (TID) that is already required, manifest files must pass the following four validation criteria:

• Entry Facility ZIP Code: The entry facility ZIP Code in the Shipping Services file must match a physical scan event at a location. A separate Shipping Services file is required for mail tendered to each different Postal Service entry facility. For eVS customers, in the Header Record of the Shipping Services file, the entry facility ZIP Code field must contain the ZIP Code for the Postal Service facility where the mail is tendered.

• Payment Account Number: The USPS account number from which the mailing will be paid must be valid. The Payment Account Number is a valid combination, is registered with eVS or PostalOne! as valid information, and is located within the Header Record of the Shipping Services file.

• Method of Payment: The approved payment method must be valid (permit imprint, postage meter, PC Postage, OMAS, franked mail, and stamps) for the mail being entered, and located in the Header Record of the Shipping Services file.

• Post Office of Account: The 5-digit ZIP Code of the Post Office issuing the permit number, meter license, or precancelled stamp must be valid, agree with the information on the postage statement, and be located in the Header Record of the Shipping Services file.

If any manifest validation field is missing or inaccurate, a Manifest Quality IMpb Compliance indicator will be assigned. Mailers can reference Publication 199, Intelligent Mail Package Barcode (IMpb) Implementation Guide for: Confirmation Services and Electronic Verification System (eVS) Mailers, for details on Shipping Services file types.

Mailer Comment: The FRN requires that IMpb's must pass Mailer ID and uniqueness validations without errors or warnings (emphasis added). The addition of warnings appears to be a substantive change, clarification needed.

USPS Response: The history of both errors and warnings is not a substantive change to IMpb Quality validation. The Postal Service recognizes the importance of providing customers with visibility, and provides mailers with the confirmation/error/warning file that identifies issues associated within the Shipping Services file record.

Each time a mailer submits a Shipping Services file, PTR processes and edits the file. When data elements do not meet USPS specifications, PTR generates an error or a warning. Single records or the entire file may be rejected or certain records may receive warnings. A message line that starts with an “E” indicates this is an Error message and the record will be rejected. A message line that starts with a “W” indicates this is a Warning Message and the record will be posted. The Postal Service converted many errors to warnings to update legacy business rules that negatively impacted piece-level visibility and prevented customers from receiving tracking information in extract files or USPS website. However, the data elements are still necessary and must be accurate, so we validate these elements. For example: Prior to changing an invalid MID to a warning it was an error that would have prevented all mail visibility. These warnings are intended to support timely postage payment and revenue assurance and be reflective of the work required to populate the files with a valid Mailer ID and IMpb uniqueness for validation.

Mailer Comment: Clarification needed: The requirement that Mailer IDs, (MIDs) be properly registered is unclear because the word “properly” is not adequately defined.

USPS Response: For the purposes of this final rule, a MID is properly registered when users request access to Program Registration via the Online Enrollment service, within the Business Customer Gateway (BCG), or when users request access to Online Enrollment from the Shipping Services page on the BCG, if they currently do not have access to the service. This service assists the user in signing up for a number of shipping programs, including USPS Tracking and eVS, and registering a six- or nine-digit MID, according to the product they are mailing, the type and volume of service they require, and the payment type.

Mailers may not use a MID in their tracking barcodes for the Shipping Services file or in an IMpb, until the MID completes certification and is registered.

Mailer Comment: It is important to remind the Postal Service that it made a commitment to work with mailers who are not making the current Address Quality (AQ) threshold, and provide awareness on how to avoid being non-compliant.

USPS Response: The Postal Service continued commitment is to educate mailers on mail preparation and improving the quality of mail. We are using various communication channels to assist mailers with falling below their Address Quality (AQ) threshold. We are committed to helping the industry through webinars, Industry Work Groups, Business Mail Entry (BME) Units, and Micro-Strategy reporting and will continue to build upon those tools to enhance the communication experience.

List of Subjects in 39 CFR Part 111

Administrative practice and procedure, Postal Service.

The Postal Service adopts the following changes to Mailing Standards of the United States Postal Service, Domestic Mail Manual (DMM), incorporated by reference in the Code of Federal Regulations. See 39 CFR 111.1. We will publish an appropriate amendment to 39 CFR part 111 to reflect these changes.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail

* * * * *

204 Barcode Standards

* * * * *

2.0 Standards for Package and Extra Service Barcodes

2.1 Intelligent Mail Package Barcode

2.1.1 Definition

[Revise the third and fifth sentences of 2.1.1 to read as follows:]

* * * Intelligent Mail package barcodes must be used on all commercial parcels and on other mailpieces requesting extra services.* * * Electronic files must include a complete destination delivery address (which has sufficient quality to yield an 11-digit ZIP Code that matches the delivery point) and/or a delivery point validation (DPV) 11-digit code for all records in the file.* * *

* * * * *

2.1.3 Barcode Data Fields

[Revise the first and final sentence of the introductory text of 204.2.1.3 to read as follows:]

The following fields are used to construct the Intelligent Mail package barcode. * * *

* * * Detailed specifications are provided in Publication 199: Intelligent Mail Package Barcode (IMpb) Implementation Guide for: Confirmation Services and Electronic Verification System (eVS) Mailers, and available on PostalPro at http://postalpro.usps.com. * * *

* * * * *

2.1.7 Electronic File

[Revise the second sentence of the introductory text and d. of 204.2.1.7 to read as follows:]

* * * Specifications for electronic files are available in Publication 199: Intelligent Mail Package Barcode (IMpb) Implementation Guide for: Confirmation Services and Electronic Verification System (eVS) Mailers, and available on PostalPro at https://postalpro.usps.com. * * *

d. Version 1.6 (or subsequent versions) of the electronic shipping services manifest files including each destination delivery address or ZIP + 4 Code. Shipping Services File manifests, or other approved electronic documentation, must include the destination delivery address (that has sufficient quality to yield an 11-digit ZIP Code that matches the delivery point) or delivery point validation (DPV) 11-digit ZIP Code for each record in the file.* * *

[Revise the title and text of 2.1.8 to read as follows:]

2.1.8 Compliance Quality Thresholds

All mailers who enter commercial parcels must meet the established thresholds for IMpb Compliance Quality outlined in Exhibit 2.1.8 to avoid an IMpb Noncompliance Fee. For details see Publication 199: Intelligent Mail Package Barcode (IMpb) Implementation Guide for: Confirmation Services and Electronic Verification System (eVS) Mailers, available on PostalPro at http://postalpro.usps.com.

Exhibit 2.1.8—IMpb Compliance Quality Thresholds
Compliance categories | Compliance codes | Validations | Compliance thresholds
Address Quality: Checks for a timely address that validates to a unique 11-Digit DPV | AQ | Must include a full, valid destination delivery address that has sufficient quality to yield an 11-digit ZIP Code that matches the delivery point in the file as follows: • Valid secondary address information. • Match between address to ZIP +4 Codes. • Includes street number. • Valid primary street number. Customers using eVS must provide the address information prior to the Arrival at Unit (07) Event Scan and non-eVS customers at the time of mailing | 89
Manifest Quality: (Shipping Services File): Checks for a timely Manifest File that passes 4 critical validation criteria | MQ | Entry facility must match between scan and manifest. Valid PO of Account ZIP Code (where account is held for payment) Valid method of payment (Permit, Federal Agency, PC Postage, Smart Meter, Other Meter, or Stamps) | 94
Barcode Quality: Checks the barcode in the manifest that passes 2 critical validations | BQ | Valid and Certified Mailer ID in the label that is in Program Registration/Online Enrollment. IMpb must be unique for 120 days | 98

[Add new section 2.1.9 to read as follows:]

2.1.9 Alternate Approval

Labels not meeting IMpb specifications or other label element standards, but still able to demonstrate acceptable functionality within USPS processes, may be allowed using an alternative approval process authorized by the Vice President, Enterprise Analytics (See DMM 608.8.1 for contact information).

* * * * *

210 Commercial Mail Priority Mail Express

213 Prices and Eligibility

* * * * *

3.0 Basic Eligibility Standards for Priority Mail Express

* * * * *

3.2 IMpb Standards

[Revise the last two sentences of 3.2 to read as follows:]

* * * Unless otherwise excepted, mailpieces not meeting the requirements for use of unique Intelligent Mail package barcodes or extra services barcodes as outlined in section 204.2.1.8 and Publication 199: Intelligent Mail Package Barcode (IMpb) Implementation Guide for: Confirmation Services and Electronic Verification System (eVS) Mailers, will be assessed an IMpb noncompliance fee. Detailed specifications are available on PostalPro at http://postalpro.usps.com.

* * * * *

220 Commercial Mail Priority Mail

223 Prices and Eligibility

* * * * *

3.0 Basic Eligibility Standards for Priority Mail

* * * * *

3.2 IMpb Standards

[Revise the last two sentences of 3.2 to read as follows:]

* * * Unless otherwise excepted, mailpieces not meeting the requirements for use of unique Intelligent Mail package barcodes or extra services barcodes as outlined in section 204.2.1.8 and Publication 199: Intelligent Mail Package Barcode (IMpb) Implementation Guide for: Confirmation Services and Electronic Verification System (eVS) Mailers, will be assessed an IMpb noncompliance fee.

Detailed specifications are available on PostalPro at http://postalpro.usps.com.

* * * * *

250 Commercial Mail Parcel Select

253 Prices and Eligibility

* * * * *

3.0 Basic Eligibility Standards for Parcel Select Parcels

* * * * *

3.3 IMpb Standards

[Revise the last two sentences of 3.3 to read as follows:]

Unless otherwise excepted, mailpieces not meeting the requirements for use of unique Intelligent Mail package barcodes or extra services barcodes as outlined in section 204.2.1.8 and Publication 199: Intelligent Mail Package Barcode (IMpb) Implementation Guide for: Confirmation Services and Electronic Verification System (eVS) Mailers, will be assessed an IMpb noncompliance fee.

Detailed specifications are available on PostalPro at http://postalpro.usps.com.

* * * * *

280 Commercial Mail First-Class Package Service—Commercial

283 Prices and Eligibility

* * * * *

3.0 Basic Eligibility Standards for First-Class Package Service—Commercial

* * * * *

3.4 IMpb Standards

[Revise the text of 3.4 to read as follows:]

All First-Class Package Service—Commercial parcels must bear an Intelligent Mail package barcode (IMpb) prepared under 204.2.0. Unless otherwise excepted, mailpieces not meeting the requirements for use of unique Intelligent Mail package barcodes or extra services barcodes as outlined in section 204.2.1.8 and Publication 199: Intelligent Mail Package Barcode (IMpb) Implementation Guide for: Confirmation Services and Electronic Verification System (eVS) Mailers, will be assessed an IMpb noncompliance fee.

Detailed specifications are available on PostalPro at http://postalpro.usps.com.

* * * * *

600 Basic Standards For All Mailing Services

* * * * *

608 Postal Information and Resources

* * * * *

8.0 USPS Contact Information

8.1 Postal Service

* * * * *

[Revise 608.8.1 by adding Enterprise Analytics text, alphabetically to read as follows:]

* * * Enterprise Analytics, US Postal Service, 475 L'Enfant Plaza SW, Room 2100, Washington, DC 20260-2100.* * *

* * * * *

We will publish an appropriate amendment to 39 CFR part 111 to reflect these changes.

Ruth B. Stevenson,
Attorney, Federal Compliance

[FR Doc. 2018-20587 Filed 9-20-18; 8:45 am]

BILLING CODE 7710-12-P